ENVIRONMENTAL PROTECTION AGENCY

[FRL-8083-7]

Temporary Relocation of the EPA Docket Center Public Reading Room

AGENCY: Environmental Protection Agency (EPA).

ACTION: Notice.

SUMMARY: The EPA Docket Center (EPA/DC) and its Public Reading Room in Washington, DC were damaged by flooding that occurred during the week of June 25, 2006. The Docket Center, including most services offered by the old Public Reading Room, continues to operate with temporary changes to its operations during the cleanup. On July 24, 2006, EPA formally reopened its EPA/DC Public Reading Room in a new location. This notice provides information regarding accessing the newly relocated EPA/DC Public Reading Room.

FOR FURTHER INFORMATION CONTACT: Patrick Grimm, Mailcode 2822T, Office of Environmental Information, Office of Information Collection, Environmental Protection Agency, 1200 Pennsylvania Ave., NW., Washington, DC 20460; telephone number: (202) 566-1677; fax number: (202) 566-1639; e-mail address: Grimm.Patrick@epa.gov.

SUPPLEMENTARY INFORMATION:

The EPA/DC houses eight consolidated paper docket facilities and includes a Public Reading Room, offering a variety of tools for members of the public seeking access to hardcopy or electronic public dockets. The EPA/DC Public Reading Room, which was temporarily closed due to flooding, reopened on July 24, 2006, in the EPA Headquarters Library, Infoterra Room (Room Number 3334) in the EPA West Building, located at 1301 Constitution Ave., NW., Washington, DC. The EPA/DC Public Reading Room hours of operation are 8:30 a.m. to 4:30 p.m. eastern standard time, Monday through Friday, excluding Federal holidays. EPA visitors are required to show photographic identification, pass through a metal detector, and sign the EPA visitor log. Visitors will be provided an EPA/DC badge that must be visible at all times. Visitor materials will be processed through an X-ray machine. In addition, security personnel will escort visitors to and from the new Public Reading Room location. Other temporary changes described in EPA's previous Federal Register of July 5, 2006 (71 FR 38147) (FRL-8078-8) are still in effect. During the cleanup, there will be access to docket materials that were physically located in the EPA/DC at the time of the flooding; however, it may take a longer time period to retrieve certain materials. Please note that all open publicly accessible docket materials are available at regulations.gov(http://www.regulations.gov).

As stated in the July 5, 2006 Federal Register notice, if you wish to obtain materials that are listed in a docket index but are not available electronically at http://www.regulations.gov, please call the applicable docket at the number listed in the Federal Register notice and on the EPA Docket Center internet site regarding access to the materials. Regular updates concerning the EPA/DC will be posted on the EPA Docket Center internet site at http://www.epa.gov/epahome/dockets.htm as they become available.

List of Subjects

Environmental protection.

Dated: July 24, 2006.
Mark Luttner,
Director, Office of Information Collection, Office of Environmental Information.

[FR Doc. 06-6510 Filed 7-24-06; 12:48 pm]

BILLING CODE 6560-50-S